DEPARTMENT OF THE INTERIOR

National Park Service

[NPS-WASO-NAGPRA-19812;PPWOCRADN0-PCU00RP14.R50000]

Notice of Inventory Completion: Northwest Museum, Whitman College, Walla Walla, WA; Correction

AGENCY: National Park Service, Interior.

ACTION: Correction.

SUMMARY: The Maxey Museum (formerly Northwest Museum), Whitman College, has corrected an inventory of human remains and associated funerary objects, published in a Notice of Inventory Completion in the Federal Register on August 13, 2008. This notice corrects the minimum number of individuals and number of associated funerary objects. Lineal descendants or representatives of any Indian tribe or Native Hawaiian organization not identified in this notice that wish to request transfer of control of these human remains and associated funerary objects should submit a written request to the Maxey Museum. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Maxey Museum at the address in this notice by January 11, 2016.

ADDRESSES: Dr. Lisa Perfetti, Maxey Museum, Whitman College, 345 Boyer Avenue, Walla Walla, WA 99362, telephone (509) 527-5187, email perfetlr@whitman.edu.

SUPPLEMENTARY INFORMATION: Notice is here given in accordance with the Native American Graves Protection and Repatriation Act (NAGPRA), 25 U.S.C. 3003, of the correction of an inventory of human remains and associated funerary objects under the control of the Maxey Museum, Walla Walla, WA. The human remains and associated funerary objects were removed from Sheep Island and Canoe Island, Benton County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (73 FR 47231, August 13, 2008). A re-inventory of the museum collection identified additional human remains and associated funerary objects from this collection. Transfer of control of the items in this correction notice has not occurred.

Correction

In the Federal Register (73 FR 47231, August 13, 2008), paragraph ten, sentence one is corrected by substituting the following sentence:

In 1949, human remains representing a minimum of 14 individuals were removed from site 45BN55, Sheep Island, Site 17 and Canoe Island, Site 13, Benton County, WA, by Thomas R. Garth, Jr. and accessioned into the museum (Cat Whit-J-028, 034, 057, 060, 063-072, 107-108, 0114, 0116 Whit-X-0003, 0004, 0007, 0061).

In the Federal Register (73 FR 47231, August 13, 2008), paragraph ten, sentence three is corrected by substituting the following sentence:

The 79 associated funerary objects are 46 light red beads, 11 pestle fragments, 2 flint scrapers, 1 rock with ochre, 1 mud-dauber's nest, 1 sandstone smoother, 1 bag of charcoal, 2 cranial faunal remains, 1 lot of seven faunal remains, 1 lot of nine faunal remains, 9 faunal remains, 2 petrified bone awls, and 1 chert flake (Cat. Whit-J-2, 3, 5, 18, 19, 23 to 25, 133, Whit-X-0003, 0004, 0005, 0060, 0062, Whit-J-0110, 0111, 0112, 0113, 0115, 0117, 0118, 0119, 0120, 0121).

In the Federal Register (73 FR 47231, August 13, 2008), paragraph eleven, sentence one is corrected by substituting the following sentence:

Sheep Island and Canoe Island were important burial islands for the Imatalamlama and are within the ceded lands of the Confederated Tribes of the Umatilla Indian Reservation, Oregon.

In the Federal Register (73 FR 47231, August 13, 2008), paragraph nineteen, sentence one is corrected by substituting the following sentence:

Officials of the Northwest Museum, Whitman College have determined that, pursuant to 25 U.S.C. 3001 (9-10), the human remains described above represent the physical remains of a minimum of 24 individuals of Native American ancestry.

In the Federal Register (73 FR 47231, August 13, 2008), paragraph nineteen, sentence two is corrected by substituting the following sentence:

Officials of the Northwest Museum, Whitman College also have determined that, pursuant to 25 U.S.C. 3001(3)(A), the 105 objects described above are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Dr. Lisa Perfetti, Maxey Museum, Whitman College, 345 Boyer Avenue, Walla Walla, WA 99362, telephone (509) 527-5187, email perfetlr@whitman.edu, by January 11, 2016. After that date, if no additional requestors have come forward, transfer of control of the human remains and associated funerary objects to the Confederated Tribes of the Umatilla Indian Reservation may proceed.

The Maxey Museum is responsible for notifying the Confederated Tribes of the Umatilla Indian Reservation that this notice has been published.

Dated: December 7, 2015.
Melanie O'Brien,
Acting Manager, National NAGPRA Program.

[FR Doc. 2015-31317 Filed 12-10-15; 8:45 am]

BILLING CODE 4312-50-P